DEPARTMENT OF VETERANS AFFAIRS

Professional Certification and Licensure Advisory Committe; Notice of Meeting

The Department of Veterans Affairs gives notice under Public Law 92-463 (Federal Advisory Committee Act) that the Professional Certification and Licensure Advisory Committee has scheduled a meeting for July 21, 2006, at the Orlando World Center Marriott Resort and Convention Center, 8701 World Center Drive, Orlando, FL. The meeting will take place from 8 a.m. to 1 p.m. in the North Tower, The Keys Ballroom Salon. This meeting will coincide with the Department of Defense Worldwide Education Symposium and will be open to the public.

The purpose of the Committee is to advise the Secretary of Veterans Affairs on the requirements of organizations or entities offering licensing and certification tests to individuals for which payment for such tests may be made under Chapters 30, 32, 34, or 35 of title 38, United States Code and under Chapters 1606 and 1607 of title 10, United States Code.

The meeting will begin with opening remarks by Ms. Sandra Winborne, Committee Chair. There will be a presentation on the usage of the license and certification test reimbursement benefit followed by a discussion of old business. Statements from the public will be heard at 11 a.m., prior to a discussion of new business.

Interested persons may file written statements to the Committee before the meeting, or within 10 days after the meeting, with Ms. Stacey St. Holder, Designated Federal Officer, Department of Veterans Affairs, Veterans Benefits Administration (225B), 810 Vermont Avenue, NW., Washington, DC 20420. Anyone wishing to attend the meeting should contact Ms. Stacey St. Holder or Mr. Robyn Noles at (202) 273-7187.

Dated: June 27, 2006.
By Direction of the Secretary.
E. Philip Riggin,
Committee Management Officer.

[FR Doc. 06-6002 Filed 7-5-06; 8:45 am]

BILLING CODE 8320-01-M